DEPARTMENT OF HOMELAND SECURITY

U.S. Customs and Border Protection

Designation of an Enhanced Driver's License and Identity Document Issued by the State of New York as a Travel Document Under the Western Hemisphere Travel Initiative

AGENCY: U.S. Customs and Border Protection, DHS.

ACTION: Notice.

SUMMARY: This notice announces that the Secretary of Homeland Security has designated enhanced driver's licenses and identity documents (EDLs) issued by the State of New York (New York) as acceptable documents to denote identity and citizenship for purposes of entering the United States at land and sea ports of entry upon implementation of Section 7209 of the Intelligence Reform and Terrorism Prevention Act of 2004. U.S. citizens possessing these EDLs will be permitted to present the EDLs as acceptable documents under Western Hemisphere Travel Initiative (WHTI) when entering the United States at land and sea ports of entry.

DATES: This designation is effective December 2, 2008.

FOR FURTHER INFORMATION CONTACT: Colleen Manaher, Western Hemisphere Travel Initiative, U.S. Customs and Border Protection, 1300 Pennsylvania Avenue, NW., Washington, DC 20229, 202-344-1220.

SUPPLEMENTARY INFORMATION:

Background

The Western Hemisphere Travel Initiative

The Intelligence Reform and Terrorism Prevention Act of 2004 (IRTPA), as amended, provides that upon full implementation, U.S. citizens and Bermudian, Canadian and Mexican nationals will be required to present a passport or such alternative documents as the Secretary of Homeland Security (Secretary) designates as satisfactorily establishing identity and citizenship when entering the United States. On April 3, 2008, the Department of Homeland Security (DHS) and Department of State (DOS) promulgated a joint final rule implementing the Western Hemisphere Travel Initiative (WHTI) at U.S. land and sea ports of entry. See 73 FR 18384 (the land-sea final rule). That final rule specifies the documents that U.S. citizens and nonimmigrant aliens from Canada, Bermuda, and Mexico will be required to present when entering the United States at land and sea ports-of-entry from within the Western Hemisphere.

Under the land-sea final rule, one type of citizenship and identity document that U.S. citizens may present upon entry to the United States is an enhanced driver's license or identification document (EDL) designated by the Secretary pursuant to section 7209 of IRTPA, as amended. See 8 U.S.C. 1185 note. Section 235.1(d) of Title 8 of the Code of Federal Regulations authorizes the Secretary to designate an EDL as acceptable:

Upon the designation by the Secretary of Homeland Security of an enhanced driver's license as an acceptable document to denote identity and citizenship for purposes of entering the United States, U.S. citizens and Canadians may be permitted to present these documents in lieu of a passport upon entering or seeking admission to the United States according to the terms of the agreements entered between the Secretary of Homeland Security and the entity. The Secretary of Homeland Security will announce, by publication of a notice in the Federal Register, documents designated under this paragraph. A list of designated documents will also be made available to the public.

EDL Programs

DHS is committed to working with the various States of the Union and the Government of Canada to facilitate the development of State and province-issued EDLs as travel documents that denote identity and citizenship as required under section 7209 of IRTPA, as amended. To establish an EDL program, each State must enter into agreement with DHS to develop an acceptable EDL document. Each EDL program is specific to each State based on factors such as the State's funding, technology, and other developments and implementation factors. DHS announces acceptable State and provincial EDL documents that denote identity and citizenship on an ongoing basis by publication in the Federal Register .

New York EDLs

New York has established a voluntary program to develop an enhanced driver's license and identification card that would denote identity and citizenship. On October 27, 2007, the Secretary of Homeland Security and the Governor of New York signed a Memorandum of Agreement (MOA) to develop, issue, test, and evaluate an enhanced driver's license and identification card with facilitative technology to be used for border crossing purposes. Under the terms of the agreement between DHS and the State of New York, New York will only issue EDLs to U.S. citizens. EDLs also may be issued as photo identification cards to non-drivers.

The Secretary has determined that EDLs issued by the State of New York satisfy the requirements of section 7209 of the IRTPA. The New York EDLs have compatible facilitative technology to meet CBP's operational needs. These documents contain vicinity radio frequency identification chips and machine readable zones that will facilitate processing for the holder. The EDLs also include physical security features that guard against tampering. New York has already begun issuing EDLs under the MOA.

This notice announces that the Secretary designates the EDL issued by the State of New York, pursuant to the terms of the MOA executed between DHS and the State of New York, as an acceptable document to denote identity and citizenship for purposes of entering the United States at land and sea ports of entry under DHS WHTI requirements. Therefore, pursuant to 8 CFR 235.1(d), U.S. citizen holders of New York EDLs may present these EDLs as an alternative to a passport upon entering the United States at all land and sea ports of entry when coming from contiguous territory and adjacent islands from within the Western Hemisphere.

Paul A. Schneider,
Deputy Secretary.

[FR Doc. E8-28535 Filed 12-1-08; 8:45 am]

BILLING CODE 9111-14-P